DEPARTMENT OF TRANSPORTATION

Maritime Administration

[Docket No. MARAD-2025-0068]

Request for Comments on the Renewal of a Previously Approved Collection: U.S. Merchant Marine Academy (USMMA) Alumni Survey

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0542 (U.S. Merchant Marine Academy (USMMA) Alumni Survey) is being updated to include the following minor changes: removal of gender-related questions, reworded question to reflect the Academy's current learning outcomes, alignment of salary ranges to the current market, and disaggregation of cohort groups at the academic major level. We are required to publish this notice in the Federal Register to obtain comments from the public and affected agencies.

DATES: Comments must be submitted on or before July 7, 2025.

ADDRESSES: You may submit comments identified by Docket No. MARAD-2025-0068 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Dr. Lori Townsend, 516-726-5637, U.S. Merchant Marine Academy, 300 Steamboat Road, Kings Point, NY 11024, Email: assessment@usmma.edu.

SUPPLEMENTARY INFORMATION:

Title: U.S. Merchant Marine Academy (USMMA) Alumni Survey.

OMB Control Number: 2133-0542.

Type of Request: Extension with Change of a Currently Approved Collection.

Abstract: The United States Merchant Marine Academy is an accredited Federal service academy that confers Bachelor of Science and Master of Science degrees. The Academy is expected to assess its educational outcomes and report those findings to its regional and programmatic accreditation authorities to maintain the institution's degree granting status. Periodic survey of alumni cohorts and analysis of the data gathered is a routine higher education assessment practice in the United States.

Respondents: Graduates of the U.S. Merchant Marine Academy who completed the program within the last one to ten years.

Affected Public: U.S. Merchant Marine Academy Graduates.

Estimated Number of Respondents: 600.

Estimated Number of Responses: 600.

Estimated Hours per Response: 0.25 hours.

Annual Estimated Total Annual Burden Hours: 150.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-07732 Filed 5-2-25; 8:45 am]

BILLING CODE 4910-81-P